DEPARTMENT OF TRANSPORTATION

Federal Highway Administration

Environmental Impact Statement: Loudoun, Fauquier, Fairfax, Prince William, and Stafford Counties, VA

AGENCY: Federal Highway Administration, DOT.

ACTION: Notice of Intent.

SUMMARY: The Federal Highway Administration (FHWA) is issuing this notice to advise the public of its intent to prepare an Environmental Impact Statement in cooperation with the Virginia Department of Transportation (VDOT) for potential transportation improvements in the western portion of Northern Virginia, between Route 7 in Loudoun County and Interstate 95 in Stafford County, to address growing regional transportation needs.

FOR FURTHER INFORMATION CONTACT: Edward Sundra, Senior Environmental Specialist and Acting Planning and Environmental Team Manager, Federal Highway Administration, Post Office Box 10249, Richmond, Virginia 23240-0249, Telephone 804-775-3338.

SUPPLEMENTARY INFORMATION: In 1995, the Western Transportation Corridor (WTC) Major Investment Study (MIS) was initiated in accordance with 23 CFR 450.318 to develop and document a purpose and need for transportation improvements in the western portion of Northern Virginia and to identify the modal type(s) and general corridor for those transportation improvements. It was intended that the regional government would use the results of the WTC MIS for purposes of long range transportation planning. In December of 1997, that WTC MIS was completed which resulted in the identification for detailed study of a transportation system management/travel demand management alternative, a links alternative, and new facility alternatives. The WTC MIS was reopened in 1998 for additional coordination, and a Coordination Report was issued by VDOT in October of 1998. In developing the WTC MIS, VDOT studied and developed information on a variety of issues including, but not limited to, the need for transportation improvements, identification and screening of a broad range of alternatives, traffic, land use, natural resources, historic and archaeological resources, parklands, air quality, noise, hazardous materials, and cost. Additional information on the WTC MIS conducted for this project and its outcomes can be found at http://www.vdot.state.va.us/proj/fred/wtcx. html.

With this notice of intent, FHWA and VDOT are initiating the National Environmental Policy Act (NEPA) process for the WTC to study potential transportation improvements in the western portion of Northern Virginia between Route 7 in Loudoun County and Interstate 95 in Stafford County, just north of the City of Fredericksburg, to accommodate anticipated growth in population and employment and address increasing travel demand and regional access needs.

As part of the NEPA process, the WTC MIS purpose and need will be revisited and revised as necessary to account for any changes in regional needs or goals. Likewise, the alternatives development and screening process from the WTC MIS will be used as a starting point for the NEPA process. Recognizing that NEPA requires the consideration of a reasonable range of alternatives that will address the purpose and need, the Environmental Impact Statement will include a range of alternatives for detailed study consisting of a no-build alternative as well as alternatives consisting of transportation system management strategies, mass transit, improvements to existing roadways, and/or new alignment facilities. These alternatives will be developed, screened, and carried forward for detailed analysis in the Draft Environmental Impact Statement based on their ability to address the purpose and need that will be developed while avoiding known and sensitive resources.

Letters describing the proposed NEPA study and soliciting input will be sent to the appropriate Federal, State and local agencies who have expressed or are known to have an interest or legal role in this proposal. It is anticipated that two formal scoping meetings will be held as part of the NEPA process, one in the Fredericksburg area and one in Northern Virginia, to facilitate local, state, and federal agency involvement and input into the project in an effort to identify all of the issues that need to be addressed in developing the Environmental Impact Statement.

Private organizations, citizens, and interest groups will also have an opportunity to provide input into the development of the Environmental Impact Statement and identify issues that should be addressed. A comprehensive public participation program will be developed to involve them in the project development process. This program will utilize the following outreach efforts to provide information and solicit input: newsletters, the Internet, a telephone hotline, e-mail, informal meetings, public information meetings, public hearings and other efforts as necessary and appropriate. Notices of public meetings or public hearings will be given through various forums providing the time and place of the meeting along with other relevant information. The draft Environmental Impact Statement will be available for public and agency review and comment prior to the public hearings.

To ensure that the full range of issues related to this proposed action are identified and taken into account, comments and suggestions are invited from all interested parties. Comments and questions concerning the proposed action and draft Environmental Impact Statement should be directed to FHWA at the address provided above.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: December 8, 2000.
Edward S. Sundra,
Senior Environmental Specialist.

[FR Doc. 00-32294 Filed 12-18-00; 8:45 am]

BILLING CODE 4910-22-M